DEPARTMENT OF TRANSPORTATION

Pipeline and Hazardous Materials Safety Administration

Office of Hazardous Materials Safety; Notice of Application for Special Permits; Special Permit Applications

AGENCY: Pipeline and Hazardous Materials Safety Administration (PHMSA), DOT.

ACTION: List of Applications for Special Permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 3, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

For Further Information

Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on September 5, 2014.
Donald Burger,
Chief, General Approvals and Permits.

Application No. | Docket No. | Applicant | Regulation(s) affected | Nature of special permits thereof
NEW SPECIAL PERMITS
16232-N |  | Linde Gas North America LLC Murray Hill, NJ | 49 CFR 171.23 (a)(1) 171.23(a)(2)(ii), 171.23(a)(3), 173.301(f)(3), 173.301(g) | To authorize the transportation in commerce of non-DOT cylinders containing a certain Division 2.2 compressed gas (modes 1, 2, 3).
16238-N |  | Entegris, Inc. Billerica, MA | 49 CFR 173.212, 173.213, 173.240, 173.241, 176.83 | To authorize the transportation in commerce of certain Division 4.1 and Division 4.2 hazardous materials in alternative packagings with alternative segregation by cargo vessel (modes 1, 2, 3, 4).
16241-N |  | Linde Gas North America LLC Murry Hill, NJ | 49 CFR 173.301(f)(3), 173.301(g) | To authorize the transportation in commerce of hydrogen chloride, anhydrous in cylinders without pressure relief devices (modes 1, 2, 3).
16242-N |  | E.I. duPont de Nemours and Company Wilmington, DE | 49 CFR 173.32(a)(2) | To authorize the transportation in commerce of two portable tanks that have been filled after the prescribed periodic inspection was due (mode 1).

[FR Doc. 2014-23476 Filed 10-1-14; 8:45 am]

BILLING CODE 4909-60-M